GENERAL SERVICES ADMINISTRATION

Notice of Intent To Prepare an Environmental Impact Statement for the Reconfiguration and Expansion of the San Luis I Land Port of Entry

AGENCY: Public Buildings Service, General Services Administration.

ACTION: Notice of intent with request for comments.

SUMMARY: The General Services Administration (GSA) announces its intent to prepare an Environmental Impact Statement (EIS) under the National Environmental Policy Act (NEPA) of 1969 to assess the potential impacts of reconfiguration and expansion of the San Luis I Land Port of Entry (LPOE) in San Luis, Arizona.

The proposed action is for GSA to reconfigure the existing downtown San Luis LPOE and expand it to improve its functionality, capacity, and security. The San Luis I LPOE was built in 1984 and is operated by the U.S. Department of Homeland Security (DHS)/U.S. Customs and Border Protection (CBP). The facility currently handles all traffic modes, including commercial vehicles, buses, privately operated vehicles (POVs), and pedestrians. However, the existing facility is inadequate relative to CBP's security standards and is incapable of adequately handling current and projected traffic volumes. GSA therefore is proposing to reconfigure and expand the existing San Luis I LPOE so that it may continue to serve POV's, buses and pedestrians. GSA is currently constructing San Luis II LPOE that will become the commercial port of entry for Yuma County, which it expects to complete in late 2009 at which time the commercial operations at San Luis I will cease.

GSA proposes to expand the current port by utilizing the vacated commercial space and acquiring approximately one acre of land along the eastern boundary of the LPOE, and approximately one acre along the western boundary of the LPOE. This expansion will mitigate traffic congestion in the port and allow an increase of the number of inspection lanes and employee parking. The expansion and reconfiguration of the LPOE will accommodate 11 primary booths for northbound inspection and allow for the future accommodation of four additional booths, including one booth for U.S./Mexico Emergency Vehicle pathway. The current six primary northbound U.S. entry lanes will be converted into three primary booths for U.S. entry for bus/high occupancy vehicles/recreational vehicles (HOV/RV) and bicycles. Southbound vehicle inspection lanes will be expanded from two to three lanes and four adjacent secondary inspection stalls will be constructed. Under the proposed action, a new headhouse facility will be constructed, administrative offices will be renovated, and pedestrian processing facilities would be expanded. Roadway modifications within the port will be conducted to improve traffic movement through the port and to enhance pedestrian safety. These modifications will also allow for establishment of an emergency route through the port.

The EIS will evaluate the potential environmental impacts associated with alternatives to implement the proposed action, including the No Action Alternative:

Alternative 1: Reconfigure the existing San Luis I LPOE and expand facilities through acquisition of approximately one acre of adjacent land to the west and approximately one acre of adjacent land to the east.

No Action Alternative: Continue operations in the existing LPOE facilities as they are currently configured. This alternative is included to provide a basis of comparison to the action alternative as required by NEPA regulations (40 CFR 1002.14[d]).

SUPPLEMENTARY INFORMATION: The public scoping period starts with publication of this notice in the Federal Register and will continue for 45 days from the date of the notice. GSA will consider all comments received or post-marked by that date in defining the scope of the EIS.

A public scoping meeting will be held to provide the public with an opportunity to present comments, ask questions, and discuss concerns regarding the scope of the EIS with GSA representatives. GSA will hold a public scoping meeting on April 14, 2009 at the San Luis City Hall Council Chambers, 1090 E. Union Street from 4 to 7 p.m.

DATES: Interested parties should submit written comments on or before May 14, 2009.

ADDRESSES: Written comments concerning the scope of the EIS should be sent to GSA San Luis Scoping, c/o Parsons, 1700 Broadway Suite 900, Denver, CO 80290 or send an e-mail to GSASanLuis@parsons.com.

FOR FURTHER INFORMATION CONTACT: Maureen Sheehan by phone at (415) 522-3601 or by e-mail at Maureen.sheehan@gsa.gov.

Dated: March 20, 2009.
Abdee Gharavi,
Portfolio Division Director, 9PT.

[FR Doc. E9-7158 Filed 3-27-09; 8:45 am]

BILLING CODE 6820-YF-P